DEPARTMENT OF HOUSING AND URBAN DEVELOPMENT

[Docket No. FR-5616-N-02]

HUD Environmental Review Online System (HEROS) Announcement of OMB Approval Number: Environmental Compliance—Recordkeeping Requirements

AGENCY: Office of the Assistant Secretary for Community Planning and Development, HUD.

ACTION: Notice.

SUMMARY: This notice announces that the HUD Environmental Review Online System (HEROS) has completed the notice and comment processes and review by the Office of Management and Budget (OMB) as required by the Paperwork Reduction Act, and that OMB has assigned a control number to this system, and the system is available for use.

FOR FURTHER INFORMATION CONTACT: Danielle Schopp, Director, Office of Environment and Energy, Office of Community Planning and Development, Department of Housing and Urban Development, 451 7th Street SW., Room 7250, Washington, DC 20410; telephone number 202-402-4442 (this is not a toll-free number). Persons with hearing or speech impairments may access this number through TTY by calling the toll-free Federal Relay Service at 800-877-8339.

SUPPLEMENTARY INFORMATION:

I. Background

HUD's Office of Environment and Energy in the Office of Community Planning and Development has developed HEROS, an online system for documenting and managing environmental reviews. HEROS covers all levels of environmental reviews required for projects covered by HUD's regulations in 24 CFR part 50 and part 58 and includes on-screen guidance for completing HUD environmental reviews. HEROS increases transparency of environmental reviews by posting them on the OneCPD Resource Exchange for public review.¹ Environmental assessments and many categorically excluded projects completed through HEROS are posted online during public comment periods or archived for a year after completion.²

¹ OneCPD can be found at https://www.onecpd.info/.

² The HEROS Web page can be found at https://www.onecpd.info/environmental-review/heros/.

On December 27, 2013, at 78 FR 78998, and consistent with the Paperwork Reduction Act (PRA), HUD published for public comment, for a period of 60 days, a notice advising of the proposed establishment of HEROS.

In the December 27, 2013, notice, HUD advised that its regulations in 24 CFR part 58, “Environmental Review Procedures for Entities Assuming HUD Environmental Responsibilities” requires units of general local government receiving HUD assistance to maintain a written environmental review record for all projects receiving HUD funding documenting compliance with the National Environmental Policy Act (NEPA), the regulations of the Council on Environmental Quality, related federal environmental laws, executive orders, and authorities, and part 58 procedure. (The various laws that authorize this procedure are listed in 24 CFR 58.1(b).)

In the December 27, 2013, notice, HUD also advised that its 24 CFR part 50, “Protection and Enhancement of Environmental Quality,” implements procedures for HUD to perform environmental reviews for projects where review under part 58 is not permitted by law. Under the regulations in 24 CFR part 50, HUD staff complete the environmental review records, but they may use any information supplied by an applicant or contractor, provided HUD independently evaluates the information and is responsible for its accuracy and prepares the environmental finding. There is no required format for applicants and contractors to submit required information, but HEROS would allow these parties to submit environmental information to HUD staff through the system as well. HUD staff will then use HEROS to complete the environmental review record.

The December 27, 2013, notice advised that with the establishment of HEROS, users would be allowed to complete, store, and submit their environmental review records online.

As stated in the December 27, 2013, notice, HUD's intention is that HEROS will improve HUD's environmental reviews in several ways. First, it replaces HUD's many environmental review forms and requirements with one single format housed online with guidance integrated throughout to simplify the process and assist new employees in the preparation of their reviews. Second, it increases transparency and overall compliance with NEPA by posting many environmental review records online for public review through HEROS. Finally, storing recipients' records in HEROS allows HUD to collect data on environmental compliance for the first time.

On March 31, 2014, at 79 FR 18048, HUD published the 30-day notice for HEROS to complete the public comment process required by the PRA. With the completion of the PRA process for HEROS, OMB has assigned OMB control number 2506-0202 to HEROS.

On February 27, 2014, at 79 FR 11045, HUD published a proposed rule entitled “Environmental Compliance Recordkeeping Requirements.” The proposed rule reiterated the various documents required to meet the environmental review requirements under the regulations in 24 CFR parts 50 and parts 58 (see 78 FR 11046) as was stated in the December 27, 2013, notice, and noted that, as a result of these regulations, a variety of documents are required to be completed by the entities complying with the environmental review requirements of these regulations. HUD noted that these various formats required to be completed under the regulations in 24 CFR parts 50 and 58 make it difficult for HUD and interested members of the public to assess compliance and prevents HUD from collecting reliable data.

The February 27, 2014, proposed rule stated HUD's intention to bring uniformity to the documentation required to reflect compliance with the regulations in 24 CFR parts 50 and 58. The proposed rule also stated that the established format would be established through the PRA notice-and-comment process. As noted above, HUD provided the opportunity for notice-and-comment through the December 27, 2013 60-day PRA notice and the March 31, 2014 30-day PRA notice. With approval of HEROS under the PRA, use of HEROS provides for the uniformity and transparency that HUD is seeking in its February 27, 2014, proposed rule.

Date: July 21, 2014.
Danielle Schopp,
Director, Office of Environment and Energy.

[FR Doc. 2014-17466 Filed 7-23-14; 8:45 am]

BILLING CODE 4210-67-P